DEPARTMENT OF JUSTICE

Drug Enforcement Administration

Importer of Controlled Substances; Notice of Registration

By Notice dated October 25, 2006 and published in the Federal Register on November 1, 2006, (71 FR 64298), Alcan Packaging-Bethlehem, 2400 Baglyos Circle, Bethlehem, Pennsylvania 18020, made application to the Drug Enforcement Administration (DEA) to be registered as an importer of Nabilone (7379), a basic class of controlled substance listed in schedule II.

The company plans to import the listed controlled substance for packaging and for distribution.

No comments or objections have been received. DEA has considered the factors in 21 U.S.C. § 823(a) and § 952(a) and determined that the registration of Alcan Packaging-Bethlehem to import the basic class of controlled substance is consistent with the public interest and with United States obligations under international treaties, conventions, or protocols in effect on May 1, 1971, at this time. DEA has investigated Alcan Packaging-Bethlehem to ensure that the company's registration is consistent with the public interest. The investigation has included inspection and testing of the company's physical security systems, verification of the company's compliance with state and local laws, and a review of the company's background and history. Therefore, pursuant to 21 U.S.C. § 952(a) and § 958(a), and in accordance with 21 CFR 1301.34, the above named company is granted registration as an importer of the basic class of controlled substance listed.

Dated: January 23, 2007.
Joseph T. Rannazzisi,
Deputy Assistant Administrator, Office of Diversion Control, Drug Enforcement Administration.

FR Doc. E7-1399 Filed 1-29-07; 8:45 am]

BILLING CODE 4410-09-P